ENVIRONMENTAL PROTECTION AGENCY

[EPA-HQ-OPP-2012-0390; FRL-9372-5]

Notice of Receipt of Pesticide Products; Registration Applications To Register New Uses

AGENCY: Environmental Protection Agency (EPA).

ACTION: Notice.

SUMMARY: This notice announces receipt of applications to register new uses for pesticide products containing currently registered active ingredients pursuant to the provisions of section 3(c) of the Federal Insecticide, Fungicide, and Rodenticide Act (FIFRA), as amended. This notice provides the public with an opportunity to comment on the applications.

DATES: Comments must be received on or before January 18, 2013.

ADDRESSES: Submit your comments, identified by docket identification (ID) number and the EPA Registration Number or EPA File Symbol for the product of interest to you as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.htm.

Additional instructions on commenting or visiting the docket, along with more information about dockets generally, is available at http://www.epa.gov/dockets.

FOR FURTHER INFORMATION CONTACT: A contact person is listed at the end of each registration application summary and may be contacted by telephone, email, or mail. Mail correspondence to the Registration Division (RD) (7505P), Office of Pesticide Programs, Environmental Protection Agency, 1200 Pennsylvania Ave. NW., Washington, DC 20460-0001. As part of the mailing address, include the contact person's name, division, and mail code.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Registration Applications

EPA has received applications to register new uses for pesticide products containing currently registered active ingredients. Pursuant to the provisions of FIFRA section 3(c)(4), EPA is hereby providing notice of receipt and opportunity to comment on these applications. Notice of receipt of these applications does not imply a decision by the Agency on these applications. For actions being evaluated under the Agency's public participation process for registration actions, there will be an additional opportunity for a 30-day public comment period on the proposed decision. Please see the Agency's public participation Web site for additional information on this process (http://www.epa.gov/pesticides/regulating/registration-public-involvement.html). EPA received the following applications to register new uses for pesticide products containing currently registered active ingredients:

1. EPA File Symbol: 100-RUUU. Docket ID Number: EPA-HQ-OPP-2012-0575. Applicant: Syngenta Crop Protection, LLC, P.O. Box 18300, Greensboro, NC 27419-8300. Active Ingredient: Difenoconazole-1[2-[2-chloro-4(4-clorophenoxy)] phenyl-4-methyl-1,3-dioxolan-2-ylmethyl]-1H-1,2,4,-triazole Difenoconazole-1[2-[2-chloro-4(4-clorophenoxy)]phenyl-4-methyl-1,3-dioxolan-2-ylmethyl]-1H-1,2,4,-triazole. Product Type: Fungicide. Proposed Uses: Vegetables, tuberous and corm, subgroup 1C. Contact: Rosemary Kearns, (703) 305-5611, email address: kearns.rosemary@epa.gov.

2. EPA Registration Number: 100-1363. Docket ID Number: EPA-HQ-OPP-2012-0215. Applicant: Syngenta Crop Protection, LLC, P.O. Box 18300, Greensboro, NC 27419-8300. Active Ingredient: Acibenzolar-S-Methyl. Product Type: Fungicide. Proposed Use: Sunflower. Contact: Rosemary Kearns, (703) 305-5611, email address: kearns.rosemary@epa.gov.

3. EPA Registration Numbers: 100-1374 and 100-1381. Docket ID Number: EPA-HQ-OPP-2012-0885. Applicant: Syngenta Crop Protection, LLC, P.O. Box 18300, Greensboro, NC 27419-8300. Active Ingredient: Sedaxane. Product Type: Fungicide. Proposed Uses: Seed treatment for use on potato; and potato, wet peel. Contact: Heather Garvie, RD, (703) 308-0034, email address: garvie.heather@epa.gov.

4. EPA Registration Numbers: 400-512 and 400-544. Docket ID Number: EPA-HQ-OPP-2012-0796. Applicant: Chemtura Corporation, 199 Benson Road, Middlebury, CT 06749. Active Ingredient: Ipconazole. Product Type: Fungicide. Proposed Uses: Legume vegetables, crop group 6. Contact: Dominic Schuler, (703) 347-0260, email address: schuler.dominic@epa.gov.

5. EPA Registration Number: 524-582. Docket ID Number: EPA-HQ-OPP-2012-0841. Applicant: Monsanto Company, 1300 I (Eye) Street NW., Suite 450 East, Washington, DC 20005. Active Ingredient: Diglycolamine salt of dicamba. Product Type: Herbicide. Proposed Use: Dicamba glufosinate tolerant MON 88701 cotton. Contact: Michael Walsh, (703) 308-2972, email address: walsh.michael@epa.gov.

6. EPA Registration Numbers: 2724-791 and 2724-807. Docket ID Number: EPA-HQ-OPP-2011-0905. Applicant: Wellmark International, 1501 E. Woodfield Road, Suite 200 West, Schaumberg, IL 60173. Active Ingredient: Etofenprox. Product Type: Insecticide. Proposed Uses: All food and feed commodities to support applications to control adult mosquitoes. Contact: Kevin Sweeney, (703) 305-5063, email address: sweeney.kevin@epa.gov.

7. EPA Registration Numbers: 7969-306 and 7969-309. Docket ID Number: EPA-HQ-OPP-2012-0637. Applicant: BASF Corporation, P.O. Box 13528, 26 Davis Drive, Research Triangle Park, NC 27709-3528. Active Ingredient: Fluxapyroxad. Product Type: Fungicide. Proposed Uses: Berries and small fruits, brassica leafy vegetables, bulb vegetables, cucurbit vegetables, grapes, leafy vegetables (except brassica), rice, root vegetables, sorghum, millet, strawberry, sugarcane, and tree nuts. Contact: Olga Odiott, (703) 308-9369, email address: odiott.olga@epa.gov.

8. EPA Registration Numbers: 7969-307 and 7969-308. Docket ID Number: EPA-HQ-OPP-2012-0637. Applicant: BASF Corporation, P.O. Box 13528, 26 Davis Drive, Research Triangle Park, NC 27709-3528. Active Ingredient: Fluxapyroxad. Product Type: Fungicide. Proposed Uses: Seed treatment use on Brassica vegetables, bulb vegetables, cucurbit vegetables, leafy vegetables, rapeseed, rice, root vegetables, and tuber vegetables. Contact: Olga Odiott, (703) 308-9369, email address: odiott.olga@epa.gov.

9. EPA Registration Number: 7969-310. Docket ID Number: EPA-HQ-OPP-2012-0637. Applicant: BASF Corporation, P.O. Box 13528, 26 Davis Drive, Research Triangle Park, NC 27709-3528. Active Ingredient: Fluxapyroxad. Product Type: Fungicide. Proposed Uses: Berries and small fruits, Brassica leafy vegetables, bulb vegetables, cucurbit vegetables, grapes, leafy vegetables (except Brassica), root vegetables, strawberry, and tree nuts. Contact: Olga Odiott, (703) 308-9369, email address: odiott.olga@epa.gov.

10. EPA Registration Number: 7969-311. Docket ID Number: EPA-HQ-OPP-2012-0637. Applicant: BASF Corporation, P.O. Box 13528, 26 Davis Drive, Research Triangle Park, NC 27709-3528. Active Ingredient: Fluxapyroxad. Product Type: Fungicide. Proposed Uses: Berries and small fruits, Brassica leafy vegetables, bulb vegetables, cucurbit vegetables, grapes, leafy vegetables (except Brassica), root vegetables, sorghum, millet, strawberry, sugarcane, and tree nuts. Contact: Olga Odiott, (703) 308-9369, email address: odiott.olga@epa.gov.

11. EPA Registration Number: 7969-312. Docket ID Number: EPA-HQ-OPP-2012-0637. Applicant: BASF Corporation, P.O. Box 13528, 26 Davis Drive, Research Triangle Park, NC 27709-3528. Active Ingredient: Fluxapyroxad. Product Type: Fungicide. Proposed Use: For formulation into a fungicide for use on turfgrass. Contact: Olga Odiott, (703) 308-9369, email address: odiott.olga@epa.gov.

12. EPA Registration Number: 11678-57. Docket ID Number: EPA-HQ-OPP-2012-0854. Applicant: Makhteshim Chemical Works, Ltd., Makhteshim-Agan of North America, Inc., 3120 Highwoods Blvd., Suite 100, Raleigh, NC 27604. Active Ingredient: Novaluron. Product Type: Insecticide. Proposed Use: Technical product for formulation uses only. Contact: Jennifer Gaines, (703) 305-5967, email address: gaines.jennifer@epa.gov.

13. EPA File Symbol: 53883-GNA. Docket ID Number: EPA-HQ-OPP-2012-0845. Applicant: Control Solutions, Inc., 5903 Genoa-Red Bluff Road, Pasadena, TX 77507-1041. Active Ingredient: Novaluron. Product Type: Insecticide. Proposed Uses: Control of stable fly larvae in cattle barns and horse barns; control of litter beetles in poultry operations. Contact: Jennifer Gaines, (703) 305-5967, email address: gaines.jennifer@epa.gov.

14. EPA Registration Number: 66222-35. Docket ID Number: EPA-HQ-OPP-2012-0854. Applicant: Makhteshim-Agan of North America, Inc., 3120 Highwoods Blvd., Suite 100, Raleigh, NC 27604. Active Ingredient: Novaluron. Product Type: Insecticide. Proposed Use: Peanuts and soybean seeds. Contact: Jennifer Gaines, (703) 305-5967, email address: gaines.jennifer@epa.gov.

15. EPA Registration Numbers; EPA File Symbol: 71711-30 and 71711-31; 71711-GA. Docket ID Number: EPA-HQ-OPP-2012-0909. Applicant: Nichino America, Inc., 4550 New Linden Hill Road, Suite 501, Wilmington, DE 19808. Active Ingredient: Tolfenpyrad. Product Type: Insecticide. Proposed Use: Lettuce (head and leaf); leaf petioles subgroup 4B; spinach; Brassica head and stem subgroup 5A; Brassica leafy subgroup 5B; vegetable, fruiting group 8; potato; nut, tree group 14 (including pistachio); almond hulls; fruit, pome group 11; apple, wet pomace; vegetable, cucurbit group 9; fruit, stone group 12; pomegranate; persimmon; citrus group 10; citrus (dried pulp and oil); grapes; raisins; cotton (seed and gin byproducts); tea; milk; cattle, sheep, goat, horse (meat, meat byproducts, fat, kidney, and liver). Contact: Driss Benmhend, (703) 308-9525, email address: benmhend.driss@epa.gov.

16. EPA Registration Numbers: 75753-1 and 75753-2. Docket ID Number: EPA-HQ-OPP-2003-0722. Applicant: Agriguard Company, LLC, 186 North Ave. East, Centennial Plaza, Suite 100, P.O. Box 630, Cranford, NJ 07016. Active Ingredient: Furfural. Product Type: Fungicide. Proposed Use: Non-food use (by use of an outdoors preplant treatment on bare soil) on crop groups 8, 9, 10, 11, 12, 13 and 14. Contact: Tamue L. Gibson, (703) 305-9096, email address: gibson.tamue@epa.gov.

17. EPA File Symbol: 85721-R. Docket ID Number: EPA-HQ-OPP-2012-0838. Applicant: METBRO Distributing, L.P., 246W Shaw Avenue, Fresno, CA 93704. Active Ingredient: Hydrogen Cyanamide. Product Type: Fungicide. Proposed Use: Non-food preplant soil treatment. Contact: Dominic Schuler, (703) 347-0260, email address: schuler.dominic@epa.gov.

18. EPA File Symbol: 85721-E. Docket ID Number: EPA-HQ-OPP-2012-0839. Applicant: METBRO Distributing, L.P., 246W Shaw Avenue, Fresno, CA 93704. Active Ingredient: Propionic Acid. Product Type: Fungicide. Proposed Use: Non-food preplant soil treatment. Contact: Dominic Schuler, (703) 347-0260, email address: schuler.dominic@epa.gov.

19. EPA Registration Number: 86203-4. Docket ID Number: EPA-HQ-OPP-2011-0905. Applicant: Mitsui Chemicals Agro Inc., P.O. Box 5126, Valdosta, GA 31603-5126. Active Ingredient: Etofenprox. Product Type: Insecticide. Proposed Uses: All food and feed commodities to support applications to control adult mosquitoes. Contact: Kevin Sweeney, (703) 305-5063, email address: sweeney.kevin@epa.gov.

III. Correction to Previously Published Registration Application

EPA is republishing the following application to show the correct docket number and to be certain that persons interested in commenting are assured that their comments will be delivered to the correct docket. This application was originally published in the Federal Register of Wednesday, November 7, 2012 (77 FR 66833) (FRL-9367-3), as application number 4 under Unit II. Registration Applications. The incorrect docket number that was shown in the November 7, 2012 application notice was EPA-HQ-OPP-2012-0713. With this republication there is also a new comment period, which ends on January 18, 2013. All submitted comments will be considered before EPA makes any decisions regarding this application. The corrected registration application is as follows:

EPA Registration Numbers: 7969-197, 7969-198 and 7969-199. Docket ID Number: EPA-HQ-OPP-2012-0710. Applicant: BASF Corporation, P.O. Box 13528, 26 Davis Drive, Research Triangle Park, NC 27709-3528. Active Ingredient: Boscalid. Product Type: Fungicide. Proposed Uses: Artichoke; Belgium endive; persimmon; bulb vegetable group 3-07; fruiting vegetable group 8-10; citrus fruit group 10-10; pome fruit group 11-10; berry subgroups 13-07 A, B, F, and G; oilseed group 20; turnip greens, and root vegetable subgroup 1B. Contact: Heather Garvie, (703) 308-0034, email address: garvie.heather@epa.gov.

List of Subjects

Environmental protection, Pesticides and pest.

Dated: December 11, 2012.
Lois Rossi,
Director, Registration Division, Office of Pesticide Programs.

[FR Doc. 2012-30614 Filed 12-18-12; 8:45 am]

BILLING CODE 6560-50-P